DEPARTMENT OF HEALTH AND HUMAN SERVICES

National Institutes of Health

National Heart, Lung, and Blood Institute; Amended Notice of Meeting

Notice is hereby given of a change in the meeting of the National Heart, Lung, and Blood Institute Special Emphasis Panel, December 7, 2015, 8:00 a.m. through December 8, 2015, 5:00 p.m., The William F. Bolger Center, 9600 Newbridge Drive, Potomac, MD, 20854 which was published in the Federal Register on November 12, 2015, 2015-28656.

Dr. Joyce's December 7-8, 2015 ZHL1 meeting has been rescheduled to January 4-5, 2016, at 8:00 a.m. The meeting is closed to the public.

Dated: November 17, 2015.
Michelle Trout,
Program Analyst, Office of Federal Advisory Committee Policy.

[FR Doc. 2015-29735 Filed 11-20-15; 8:45 am]

BILLING CODE 4140-01-P